Title 3—

The President

Memorandum of January 8, 2021

Providing an Order of Succession Within the United States International Development Finance Corporation

Memorandum for the Chief Executive Officer of the United States International Development Finance Corporation

By the authority vested in me as President by the Constitution and the laws of the United States of America, including the Federal Vacancies Reform Act of 1998, as amended, 5 U.S.C. 3345 et seq. (the “Act”), I hereby direct the following:

Section 1. Order of Succession. Subject to the provisions of section 2 of this memorandum, and to the limitations set forth in the Act, the following officers of the United States International Development Finance Corporation (DFC), in the order listed, shall act as and perform the functions and duties of the office of the Chief Executive Officer of DFC during any period in which the Chief Executive Officer of DFC has died, resigned, or otherwise become unable to perform the functions and duties of the office of the Chief Executive Officer of DFC:

(a) Deputy Chief Executive Officer;

(b) Chief Operating Officer;

(c) Executive Vice President for Strategy;

(d) Chief of Staff;

(e) Vice President and General Counsel;

(f) Deputy General Counsel;

(g) Vice President, Structured Finance and Insurance;

(h) Vice President, Development Credit; and

(i) Chief Financial Officer and Vice President, Finance.

Sec. 2. Exceptions. (a) No individual who is serving in an office listed in section 1 of this memorandum in an acting capacity shall, by virtue of so serving, act as Chief Executive Officer of DFC pursuant to this memorandum.

(b) No individual who is serving in an office listed in section 1 of this memorandum shall act as Chief Executive Officer of DFC unless that individual is otherwise eligible to so serve under the Act.

(c) Notwithstanding the provisions of this memorandum, the President retains discretion, to the extent permitted by law, to depart from this memorandum in designating an acting Chief Executive Officer of DFC.

Sec. 3. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

Sec. 4. You are authorized and directed to publish this memorandum in the Federal Register.

THE WHITE HOUSE,

Washington, January 8, 2021

[FR Doc. 2021-00829

Filed 1-12-21; 11:15 am]

Billing code 3210-02-P